DEPARTMENT OF HEALTH AND HUMAN SERVICES

Substance Abuse and Mental Health Services Administration

Center for Substance Abuse Treatment; Notice of Meeting

Pursuant to Pub. L. 92-463, notice is hereby given of a meeting of the Center for Substance Abuse Treatment (CSAT) National Advisory Council to be held in January 2001. A portion of the meeting will be open and include discussion of the Center's policy issues and current administrative, legislative, and program developments. The Council will hear feature presentations by SAMHSA Acting Administrator Joseph H. Autry, III, M.D. and CSAT Director H. Westley Clark, M.D., J.D., M.P.H., CAS, FASAM, Status reports on Buprenorphine, OPIOD Accreditation and CSAT's National Treatment Plan will also be presented. Other presentations include: Budget and Decision Process for Discretionary Funds; Methamphetamine; and an Overview of CSAT's Office of Evaluation, Scientific Analysis and Synthesis (including National Treatment Outcomes and Monitoring Systems, Knowledge Application Program (KAP), Persistent Effects of Treatment Study Project (PETS), National Evaluation Data Services (NEDS) Update, State Treatment Needs Assessment, Administrative Treatment Data Webs).

If anyone needs special accommodations for persons with disabilities, please notify the Contact listed below.

The meeting will also include the review, discussion, and evaluation of grant applications. Therefore a portion of the meeting will be closed to the public as determined by the Administrator, SAMHSA, in accordance with Title 5 U.S.C. 552b(c)(3), (4), and (6) and 5 U.S.C. App. 2, 10(d).

A summary of the meeting and roster of council members may be obtained from: Mrs. Marjorie Cashion, CSAT, National Advisory Council, Rockwall II Building, Suite 618, 5600 Fishers Lane, Rockville, Maryland 20857, Telephone: (301) 443-8923.

Substantive program information may be obtained from the contact whose name and telephone number is listed below.

Committee Name: Center for Substance Abuse Treatment, National Advisory Council.

Meeting Date:

January 8, 2001—8:30 a.m.-5 p.m.

January 9, 2001—9 a.m.-1 p.m.

Place: NIH Neuroscience Conference Center, 6001 Executive Boulevard, Rockville, Maryland 20852.

Type:

Closed: January 8, 2001—8:30 a.m.-8:50 a.m.

Open: January 8, 2001—8:50 a.m.-5 p.m.; January 9, 2001—9 a.m.-1 p.m.

Contact: Marjorie M. Cashion, Executive Secretary, Telephone: (301) 443-8923, and FAX: (301) 480-6077.

Dated: December 20, 2000.
Toian Vaughn,
Committee Management Officer, Substance Abuse and Mental Health Services Administration.

[FR Doc. 00-32925 Filed 12-26-00; 8:45 am]

BILLING CODE 4162-20-P